COMMISSION ON CIVIL RIGHTS

Sunshine Act Notice

Agency: Commission on Civil Rights.

Date and Time: Friday, January 10, 2003, 8:30 a.m.

Place: Hyatt Regency Albuquerque, 330 Tijeras Avenue, NW., Albuquerque, NM 87102.

Status:

Agenda

I. Approval of Agenda.

II. Approval of Minutes of December 13, 2002 Meeting.

III. Announcements.

IV. Staff Director's Report.

V. State Advisory Committee Appointments for Connecticut.

VI. Program Planning.

VII. Presentations from State Advisory Committee Chairs from the Rocky Mountain Region.

VIII. Presentations from Individual and Organizational Representatives on Civil Rights Issues Facing New Mexico.

IX. Future Agenda Items.

Contact Person for Further Information: Les Jin, Press and Communications (202) 376-7700.

Debra A. Carr,
Deputy General Counsel.

[FR Doc. 02-33151 Filed 12-31-02; 2:36 pm]

BILLING CODE 6335-01-M